DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before August 19, 2002.

ADDRESS COMMENTS TO: Records Center, Research and Special Programs Administration, U.S. Department of Transportation, Washington, DC 20590.

Comment should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street SW., Washington, DC 20590 or at http://dms.dot.gov.

This notice of receipt of applications for new exemptions is published in accordance with Part 107 of the Federal hazardous materials transportation law (49 U.S.C. 5117(b); 49 CFR 1.53(b)).

Issued in Washington, DC, on July 12, 2002.
R. Ryan Posten,
Exemptions Program Officer, Office of Hazardous Materials, Exemptions and Approvals.

New Exemptions
Application No. | Docket No. | Applicant | Regulation(s) affected | Nature of exemption thereof
13046-N |  | Consani Engineering, Elsies River, South Africa | 49 CFR 178.245-1(a) | To authorize the manufactue, marking, sale and use of certain DOT Specification 51 steel portable permanently fixed within ISO frames designed in accordance with Section VIII, Division II of the ASME Code instead of Section VIII, Division 1 for use in transporting Division 2.1, 2.2 an 2.3 hazardous materials. (modes 1, 2, 3)
13047-N |  | Brenntag Mid-South, Inc., Henderson, KY | 49 CFR 173.34(d), 179.300-12(b), 179.300-13(a), 179.300-14 | To authorize the transportation of cylinders containing hazardous materials equipped with emergency A&B kits. (mode 1)
13048-N |  | Department of Energy/Richland Operations Office, Richland, WA | 49 CFR 173.244 | To authorize the one-time, one-way transportation in commerce of a non-DOT specification containment system for waste disposal. (mode 1)
13049-N |  | Honeywell International Inc., Morristown, NJ | 49 CFR 177.834(i)(3) | To authorize cargo tanks to remain connected while standing without the physical presence of an unloader. (mode 1)
13050-N |  | Honeywell International, Morristown, NJ | 49 CFR 172.704(c) | To authorize the transportation in commerce of cylinders containing Division 2.3 hazardous materials to transported with alternative labels. (modes 1, 2, 3)
13051-N |  | IBC Product Group of the Reusable Industrial Assoc, Landover, MD | 49 CFR 107.601, 171.2(a) & (b), 172 Subpart G, 172.202, 172.204, 172.504 | To authorize the transportation in commerce of certain emptied intermediate bulk containers (IBCs) for purposes of reconditioning, remanufacturing, repair, routine maintenance, or recertification with a modified shipping document and no placarding. (mode 1)
13052-N |  | Questar, Inc., North Canton, OH | 49 CFR 172.301(a), 172.301(c), 172.400(a), 173.173(b)(2), 173.242 | To authorize the manufacture, marking, sale and use of UN 11G fiberboard intermediate bulk containers for use as the outer packaging for certain waste paints and waste paint related material, Class 3 in 5 gallon pails. (mode 1)
13053-N |  | Honeywell International Inc., Morristown, NJ | 49 CFR 174.67(i) & (j) | To authorize rail cars to remain connected while standing without the physical presence of an unloader. (mode 2)
13054-N |  | CHS Transportation, Mason City, IA | 49 CFR 173.315(e) | To authorize the transportation in commerce of MC330 & MC331 cargo tanks equipped with an alternative gauging device for use in transporting Division 2.1 and 2.2 material. (mode 1)
13055-N |  | Stenstrom Petroleum, Equipment Group, Rockford, IL | 49 CFR 172.504(c)(1)(d) | To authorize the transportation in commerce of specially designed equipment with residual amounts of hazardous materials to be transported without placarding. (mode 1)
13056-N |  | American Type Culture Collection (ATCC), Manassas, Va | 49 CFR 172, Subpart C, 173.134 | To authorize the transportation in commerce of certain infectious substances in special packagings. (mode 1)
13057-N |  | MINTEQ International Inc. Eastern, PA | 49 CFR 172 Subparts D, E & F, 173.24(c) Subparts E & F of Part 173 | To authorize the transportation in commerce of metal tubing containing hazardous materials to be transported with minimal regulation. (modes 1, 2, 3)
13059-N |  | GE Plastics, Burkville, AL | 49 CFR 177.834(i)(3) | To authorize cargo tanks to remain connected while standing without the physical presence of an unloader. (mode 1)
3060-N |  | Spence Engineering Company, Inc., Walden, NY | 49 CFR Parts 171-180 | To authorize the manufacture, mark, sale and use of specially designed equipment containing various limited quantities of hazardous materials with minimal regulation. (modes 1, 3, 4)
13061-N |  | Dow AgroSciences L.L.C., Indianapolis, IN | 49 CFR 172.302(a), 172.504(a) | To authorize the transportation in commerce of Division 6.1 liquid fumigants in non-DOT specification cargo tanks equipped with an alternative pressure relief system. (mode 1)
13062-N |  | Safety-Kleen (BDT), Inc., Columbia, SC | 49 CFR 173.40(c)(2) | To authorize the transportation in commerce of non-DOT specification cylinders filled with a Division 2.3 Inhalation Hazard Zone A, material or a Division 6.1 material. (mode 1)
13063-N |  | Air Products Polymers, L.P., Dayton, NJ | 49 CFR 174.67(i) & (j) | To authorize the transportation in commerce of rail cars containing Class 3 hazardous materials to remain connected while standing without the physical presence of an unloader. (mode 2)
13064-N |  | Pressed Steel Tank Co., Milwaukee, WI | 49 CFR 173.300a, 173.34(e) | To authorize the manufacture, marking, sale and use of a non-DOT specification cylinder for use in transporting Division 2.3 hazardous materials. (modes 1, 2, 3)

[FR Doc. 02-18228 Filed 7-18-02; 8:45 am]

BILLING CODE 4910-60-M